DEPARTMENT OF HEALTH AND HUMAN SERVICES

National Institutes of Health

National Cancer Institute Cancellation; Notice of Meeting

Notice is hereby given of the cancellation of the National Cancer Institute Special Emphasis Panel, August 7, 2018, 10:00 a.m. to August 7, 2018, 5:00 p.m., National Cancer Institute Shady Grove, 9609 Medical Center Drive, 7W260, Rockville, MD 20850 which was published in the Federal Register on June 8, 2018, 83 FR 26703.

This meeting has been cancelled due to no proposal submissions.

Dated: July 5, 2018.
Melanie J. Pantoja,
Program Analyst, Office of Federal Advisory Committee Policy.

[FR Doc. 2018-14757 Filed 7-10-18; 8:45 am]

BILLING CODE 4140-01-P